DEPARTMENT OF TRANSPORTATION

Office of the Assistant Secretary for Research and Technology; University Transportation Centers Program Competition

AGENCY: Office of the Assistant Secretary for Research and Technology (OST-R), DOT.

ACTION: Notice.

SUMMARY: The United States Department of Transportation (the Department) is publishing this notice to give eligible nonprofit institutions of higher learning advance notice that they will have an opportunity to submit grant applications for the University Transportation Centers (UTCs) program (Catalog of Federal Domestic Assistance number 20.701).

Funds for this grant program are authorized beginning on October 1, 2015. In the near future, the Department, via the Office of the Assistant Secretary for Research and Technology, will release a grant solicitation through Grants.gov, also posted on the UTC Program's Web site, http://utc.dot.gov, describing the competition and deadlines for applications. Proposals will be evaluated through a competitive process on the basis of demonstrated ability, research, technology transfer and education resources, leadership, multimodal research capability, commitment to transportation workforce development programs, dissemination of results, the use of peer review, cost effectiveness and partnerships to advance diversity.

FOR FURTHER INFORMATION CONTACT: Dr. Kevin Womack, Director, Office of Research, Development and Technology, mail code RDT-10, Office of the Assistant Secretary for Research and Technology (OST-R), 1200 New Jersey Avenue SE., Washington, DC 20590. Telephone Number (405) 954-7312 or Email Kevin.Womack@dot.gov.

SUPPLEMENTARY INFORMATION:

Table of Contents

I. Background

II. Eligibility

III. Matching Requirements

IV. Application Process

V. Program Funding and Award

VI. Use of Grant Funds

I. Background

The Fixing America's Surface Transportation Act (FAST Act; Pub. L. 114-94, Sec. 6002(a)(5); December 4, 2015) authorizes $72.5 million for Federal fiscal year 2016 (FY 2016), $75 million for fiscal years 2017 (FY 2017) and 2018 (FY 2018), and $77.5 million for fiscal years 2019 (FY 2019) and 2020 (FY 2020) for up to 35 competitive grants for UTCs. The FY 2016 through FY 2020 funds are subject to appropriations and to an annual obligation limitation. The amount of budget authority available in a given year may be less than the amount authorized for that fiscal year.

The FAST Act authorizes the Secretary of Transportation to make grants to eligible nonprofit institutions of higher education to establish and operate UTCs. Nonprofit institutions of higher education may include qualifying two-year institutions (20 U.S.C. 1001(a)). OST-R will manage the UTC Program for the Department. The Department will solicit competitive grant applications for National University Transportation Centers, Regional University Transportation Centers and Tier 1 University Transportation Centers as set forth in the FAST Act. UTCs will be selected by the Secretary, in consultation as appropriate with the Assistant Secretary for Research and Technology, and the Administrator of the Federal Highway Administration and other modal administrators as appropriate. (49 U.S.C. 5505(b)(4)(B) as amended by Pub. L 114-94, Sec. 6016).

The Department plans to competitively select five National UTCs with annual awards for five years of between $2 and $4 million each, ten Regional UTCs with annual awards of between $1.5 and $3 million each, and up to 20 Tier 1 UTCs with annual awards of between $1 and $2 million each.

The role of each UTC is to advance transportation expertise and technology in the varied disciplines that comprise the field of transportation through education, research, and technology transfer activities; to provide for a critical transportation knowledge base outside of the Department of Transportation; and to address critical workforce needs and educate the next generation of transportation leaders.

II. Eligibility

A UTC must be located in the United States or territories. A change in the UTC Program from prior authorizations is that each UTC must be a consortium of two or more nonprofit institutions of higher learning (49 U.S.C. 5505(b)(1) as amended by Pub. L. 114-94, § 6016).

A Regional UTC must be located in the region for which the grant is sought. (49 U.S.C. 5505(c)(3)(B)(ii) as amended by Pub. L. 114-94, § 6016). All members of a Regional UTC consortium must be located in the region for which the grant is sought.

Institutions may collaborate with state and local departments of transportation, Metropolitan Planning Organizations, the private sector, and non-governmental organizations; however, these organizations or others that are not U.S. nonprofit institutions of higher learning may not be considered members of a consortium. A change from previous UTC Program competitions is that two-year institutions may be members of a consortium if they meet the definition of “institution of higher learning” in 20 U.S.C. 1001(a). The grantee institution (lead institution of a consortium of institutions) will be the direct and primary recipient of UTC program funds. The grantee institution must perform a substantive role in carrying out UTC activities, and not serve merely as a conduit for awards to other parties.

Applicants may apply for more than one type of grant, but the FAST Act limits the circumstances in which an institution may receive more than one grant. (49 U.S.C. 5505(b)(2)(A) as amended by Pub. L. 114-94, § 6016). The restriction is:

• A lead institution of a consortium of nonprofit institutions of higher education may only receive one grant per fiscal year for each type of Center. Thus, a lead institution may receive grants as a National Center, a Regional Center, and a Tier 1 Center, but not more than one grant in each category.

III. Matching Requirements

Each UTC is required to obtain matching funds from non-federal sources. The amount of matching funds required for a National or Regional UTC is 100 percent of the Federal award. The amount of matching funds required for a Tier 1 UTC is 50 percent of the Federal award. The matching amounts may include the amounts made available to a grant recipient under 23 U.S.C. 504(b) or 505.

IV. Application Process

Full and Open Competition. The Department will conduct the UTC program selection based on principles of full and open competition. Five National Centers, ten Regional Centers and up to 20 Tier 1 Centers will be selected from the pool of applicants for each type of UTC.

Subject Matter Focus. A change to the UTC Program in this competition is that applicants for a UTC must address research priorities identified in section 6503, Subtitle III of title 49 as amended by Public Law 114-94, § 6016:

A. Improving mobility of people and goods;

B. Reducing congestion;

C. Promoting safety;

D. Improving the durability and extending the life of transportation infrastructure;

E. Preserving the environment; and

F. Preserving the existing transportation system.

The Secretary will select nonexclusive candidate topic areas that will fall within these six priority areas. Each UTC will be awarded a grant based on its ability to address one of these six priorities and the topic areas that fall within the priority area selected.

National UTCs: The Department intends to select National UTCs to lead research in five of these priority areas.

Regional UTCs: One UTC will be selected in each of ten Standard Federal Regions. Regional UTCs are required to focus on transportation research and education (49 U.S.C. 5505(c)(3)(B) as amended by Public Law 114-94, § 6016). Regional UTCs must be able to conduct research in an area of focus from among nonexclusive candidate topic areas established by the Secretary that address the research priorities identified in section 6503, Subtitle III of title 49 as amended by Public Law 114-94, § 6016. One of the Regional Centers must focus on “comprehensive transportation safety, safety, congestion, connected vehicles, connected infrastructure, and autonomous vehicles” as its main research effort (49 U.S.C. 5505(c)(3)(E) as amended by Public Law 114-94, § 6016). An applicant for a Regional UTC must designate the region in which it is applying.

Tier 1 UTCs: Based on the statute's general selection criteria, the Tier 1 UTCs (no more than 20 UTCs) must focus on nonexclusive candidate topic areas that address the research priorities identified in section 6503, Subtitle III of title 49 as amended by Public Law 114-94, 6016. In making awards to Tier 1 UTCs, consideration will be given to minority institutions, as defined by section 365 of the Higher Education Act of 1965 (20 U.S.C. 1067k), or consortia that include such institutions that have demonstrated an ability in transportation-related research.

The Department seeks a balanced portfolio of UTCs across the 35 to be selected through this competition that supports the Department's Strategic Goals, contains different types and/or sizes of nonprofit institutions of higher education, and focuses on improving overall system performance using multiple transportation resources that address multimodal needs.

Letter of Intent. The solicitation will require that each applicant submit a non-binding letter of intent approximately one month after the solicitation is announced on Grants.gov, also posted on the UTC Program Web site http://utc.dot.gov. The letter of intent must identify the following items:

• The category of grant for which the applicant will apply (National, Regional, Tier I); and

• The chosen priority area in which to focus research, based on section 6503, Subtitle III of title 49 as amended by Public Law 114-94, § 6016.

Letters of intent will be required so that the Department's review panels, comprising relevant subject-matter experts drawn from inside and outside the Department, may be organized in advance of receipt of final proposals. If an institution intends to apply for more than one UTC grant, a separate letter of intent must be submitted for each intended application.

Selection criteria. The Department will evaluate and select UTC applicants based on the nine selection criteria outlined in the FAST Act:

“(i) the demonstrated ability of the recipient to address each specific topic area described in the research and strategic plans of the recipient;

“(ii) the demonstrated research, technology transfer, and education resources available to the recipient to carry out this section;

“(iii) the ability of the recipient to provide leadership in solving immediate and long-range national and regional transportation problems;

“(iv) the ability of the recipient to carry out research, education, and technology transfer activities that are multimodal and multidisciplinary in scope;

“(v) the demonstrated commitment of the recipient to carry out transportation workforce development programs through—

“(I) degree-granting programs or programs that provide other industry-recognized credentials; and

“(II) outreach activities to attract new entrants into the transportation field including women and underrepresented populations;

“(vi) the demonstrated ability of the recipient to disseminate results and spur the implementation of transportation research and education programs through national or statewide continuing education programs;

“(vii) the demonstrated commitment of the recipient to the use of peer review principles and other research best practices in the selection, management, and dissemination of research projects;

“(viii) the strategic plan submitted by the recipient describing the proposed research to be carried out by the recipient and the performance metrics to be used in assessing the performance of the recipient in meeting the stated research, technology transfer, education, and outreach goals; and

“(ix) the ability of the recipient to implement the proposed program in a cost-efficient manner, such as through cost sharing and overall reduced overhead, facilities, and administrative costs.”

(49 U.S.C. 5505(b)(4)(B) as amended by Pub. L. 114-94, § 6016).

These criteria apply to the evaluation and selection of all three categories of UTCs. The following additional selection criteria apply to Regional UTCs and Tier I UTCs:

Regional UTCs. The lead institution in a Regional consortium must have a well-established, nationally recognized program in research and education, as shown by:

(i) recent expenditures by the institution in highway or public transportation research;

(ii) a historical track record of awarding graduate degrees in professional fields closely related to highways and public transportation; and

(iii) an experienced faculty who specialize in professional fields closely related to highways and public transportation.

(49 U.S.C. 5505(c)(3)(B) (iii) as amended by Pub. L. 114-94, § 6016).

Tier 1 UTCs. Consideration will be given to minority institutions, as defined by section 365 of the Higher Education Act of 1965 (20 U.S.C. 1067k), or consortia that include such institutions that have demonstrated an ability in transportation-related research.

Past Performance. The Department is required by 2 CFR 200, Uniform Administrative Requirements, Cost Principles, and Audit Requirements for Federal Awards, Section 205, to review risk posed by applicants. This may be done through such publicly available information collections as the System for Award Management (SAM.gov) and/or through specifically collected information about the applicant's record in managing Federal awards.

External Stakeholders. The Department will consult with external stakeholders (including the Transportation Research Board of the National Academy of Sciences, among others), to the maximum extent practicable, to evaluate and review all proposals. (49 U.S.C. 5505(b)(6) as amended by Public Law 114-94, 6016).

V. Program Funding and Award

UTCs will be selected by the Secretary, in consultation as appropriate with the Assistant Secretary for Research and Technology, the Administrator of the Federal Highway Administration and other modal administrators as appropriate. Awards will be made no later than December 4, 2016, with Federal FY16 funds awarded at that time. Subsequent Federal FY17-FY20 funding will be awarded approximately annually after that date, subject to availability of funds and grantee compliance with grant terms and conditions.

VI. Use of Grant Funds

Grantees will have until September 30, 2022 to expend all funds, assuming availability of annual appropriations.

Issued in Washington, DC, on January 27, 2016.
Gregory D. Winfree,
Assistant Secretary.

[FR Doc. 2016-01838 Filed 2-1-16; 8:45 am]

BILLING CODE 4910-9X-P